FARM CREDIT ADMINISTRATION

Sunshine Act Meetings

AGENCY: Farm Credit Administration Board, Farm Credit Administration.

ACTION: Notice, regular meeting.

SUMMARY: Notice is hereby given, pursuant to the Government in the Sunshine Act, of the forthcoming regular meeting of the Farm Credit Administration Board.

DATES: The regular meeting of the Board will be held September 9, 2021, from 9:00 a.m. until such time as the Board may conclude its business. Note: Because of the COVID-19 pandemic, we will conduct the board meeting virtually. If you would like to observe the open portion of the virtual meeting, see instructions below for board meeting visitors.

ADDRESSES: To observe the open portion of the virtual meeting, go to FCA.gov, select “Newsroom,” then “Events.” There you will find a description of the meeting and a link to “Instructions for board meeting visitors.” See SUPPLEMENTARY INFORMATION for further information about attendance requests.

FOR FURTHER INFORMATION CONTACT: Dale Aultman, Secretary to the Farm Credit Administration Board (703) 883-4009. TTY is (703) 883-4056.

SUPPLEMENTARY INFORMATION: Instructions for attending the virtual meeting: This meeting of the Board will be open to the public, and parts will be closed. If you wish to observe, at least 24 hours before the meeting, go to FCA.gov, select “Newsroom,” then “Events.” There you will find a description of the meeting and a link to “Instructions for board meeting visitors.” If you need assistance for accessibility reasons or if you have any questions, contact Dale Aultman, Secretary to the Farm Credit Administration Board, at (703) 883-4009.

The matters to be considered at the meeting are as follows:

Open Session

Approval of Minutes

• August 12, 2021

New Business

• Tier 1/Tier 2 Capital Framework—Clarifying Corrections and Revisions: Final Rule

Reports

• Quarterly Report on Economic Conditions and FCS Condition and Performance

Closed Session

• Office of Examination Quarterly Report ¹

¹ Closed session is exempt pursuant to 5 U.S.C. Section 552b(c)(8) and (9).

Dated: August 30, 2021.
Dale Aultman,
Secretary, Farm Credit Administration Board.

[FR Doc. 2021-18982 Filed 8-30-21; 4:15 pm]

BILLING CODE 6705-01-P